DEPARTMENT OF EDUCATION

34 CFR Chapter VI

[Docket ID ED-2014-OPE-0034]

Final Priorities; Centers for International Business Education Program

AGENCY: Office of Postsecondary Education, Department of Education.

ACTION: Final priorities.

[CFDA Number: 84.220A.]

SUMMARY: The Acting Assistant Secretary for Postsecondary Education announces two priorities for the Centers for International Business Education (CIBE) program. The Assistant Secretary may use these priorities for competitions in fiscal year (FY) 2014 and later years.

The first priority promotes projects that propose to collaborate with one or more professional associations or businesses to expand employment opportunities for international business students, for example, by creating internships and work-study opportunities. We intend for the first priority to improve the preparation of international business students to enter the workforce. The second priority promotes projects that propose collaborative activities with a Minority-Serving Institution (MSI) or a community college. We intend for this priority to address a gap in the types of institutions, faculty, and students that have historically benefitted from the instruction, training, and outreach available at centers for international business education.

DATES: Effective Date: These priorities are effective July 3, 2014.

FOR FURTHER INFORMATION CONTACT: Timothy Duvall, U.S. Department of Education, 1990 K Street NW., Room 6069, Washington, DC 20006. Telephone: (202) 502-7622 or by email: timothy.duvall@ed.gov.

If you use a telecommunications device for the deaf (TDD) or a text telephone (TTY), call the Federal Relay Service (FRS), toll free, at 1-800-877-8339.

SUPPLEMENTARY INFORMATION: Purpose of Program: The purpose of the CIBE program is to provide funding to institutions of higher education or consortia of such institutions for curriculum development, research, and training on issues of importance to U.S. trade and competitiveness.

Program Authority: 20 U.S.C. 1130-1.

Applicable Program Regulations: As there are no program-specific regulations, we encourage each potential applicant to read the authorizing statute for the CIBE program in section 612 of Title VI, Part B, of the Higher Education Act of 1965, as amended (HEA), 20 U.S.C. 1130-1.

We published a notice of proposed priorities (NPP) for this program in the Federal Register on March 18, 2014 (79 FR 15084). That notice contained background information and our reasons for proposing the particular priorities. There is a difference between the proposed priorities and these final priorities as discussed in the Analysis of Comments and Changes section elsewhere in this notice.

Public Comment: In response to our invitation in the NPP, five parties submitted comments. Three of the comments addressed the proposed priorities and two of the comments addressed the wording in the Purpose of Program section of the NPP.

We discuss substantive issues under the priority to which they pertain. Generally, we do not address technical and other minor changes.

Analysis of Comments and Changes: An analysis of the comments and any changes in the priorities since publication of the NPP follows.

General

Comment: Two commenters noted that the wording in the Purpose of Program section of the NPP does not accurately reflect the entities eligible for funding under the CIBE program. They stated that schools of business are not the only eligible entities and suggested broader wording.

Discussion: We agree that the wording in the Purpose of Program section of the NPP is too narrow and does not accurately reflect the purpose of the program under the statute. Under the statute (20 U.S.C. 1130-1(a)(2)), the program is designed to support institutions of higher education or consortia of such institutions.

Changes: We revised the Purpose of Program section in this notice of final priorities to specify that the CIBE program provides funding to institutions of higher education or consortia of such institutions, rather than just to schools of business.

Comment: A commenter endorsed the proposed priorities and expressed appreciation for the Department of Education's efforts to facilitate stronger participation of MSIs. In addition, the commenter urged us to use these priorities as absolute or competitive preference priorities.

Discussion: We appreciate the commenter's support. However, it is our practice to specify the priority types for each competition in the notice inviting applications, not in a notice of final priorities.

Changes: None.

Priority 1—Collaboration With a Professional Association or Business

Comment: A commenter suggested that business education should include a study of labor laws to address inequalities in the workplace and the protection of workers values.

Discussion: The CIBE program focuses on supporting institutions of higher education that operate centers for international business education. Nothing in the priority precludes an applicant from incorporating the study of labor laws and microinequities in the workplace into its curriculum. However, we do not wish to limit grantees in their project design by further specifying areas of study.

Changes: None.

Priority 2—Collaboration With MSIs or Community Colleges

Comment: A commenter stated that the wording of the proposed priority implied that an applicant can meet the priority by proposing collaborative activities with only one MSI or community college and requested that we change the priority to allow collaboration with multiple MSIs or community colleges.

Discussion: We agree that the proposed priority unnecessarily limited the scope of the priority and we are revising the final priority to include the option of collaborating with one or more MSIs or community colleges. We believe that a proposed project could benefit from collaboration with more than one MSI or community college, or a combination of MSIs and community colleges.

In addition, in connection with a comment received on a similar priority under a different program, we considered whether, for an applicant that meets the definition of an MSI, we should allow that institution to meet the priority by conducting intra-campus collaborative activities instead of, or in addition to, collaborative activities with other MSIs or community colleges. After further review, we believe it is appropriate to permit an institution that is also an MSI the flexibility to focus on intra-campus collaborative activities as well as on collaborative activities with other MSIs and community colleges.

Changes: We have revised the priority to clarify that an institution can collaborate with multiple MSIs or community colleges, or a combination of MSIs and community colleges. We have also clarified that an institution that is an MSI may meet the priority by proposing intra-campus collaborative activities as well as on collaborative activities with other MSIs and community colleges.

Final Priorities

Priority 1: Collaboration With a Professional Association or Business

Applications that propose to collaborate with one or more professional associations and/or businesses on activities designed to expand employment opportunities for international business students, such as internships and work-study opportunities.

Priority 2: Collaboration With Minority-Serving Institutions (MSIs) or Community Colleges

Applications that propose significant and sustained collaborative activities with one or more MSIs (as defined in this notice) and/or with one or more community colleges (as defined in this notice). These activities must be designed to incorporate international, intercultural, or global dimensions into the business curriculum of the MSI(s) and/or community college(s). If an applicant institution is an MSI (as defined in this notice), that institution may propose intra-campus collaborative activities instead of, or in addition to, collaborative activities with other MSIs or community colleges.

For the purpose of this priority:

Community college means an institution that meets the definition in section 312(f) of the Higher Education Act (HEA) (20 U.S.C. 1058(f)); or an institution of higher education (as defined in section 101 of the HEA (20 U.S.C. 1001)) that awards degrees and certificates, more than 50 percent of which are not bachelor's degrees (or an equivalent) or master's, professional, or other advanced degrees.

Minority-Serving Institution means an institution that is eligible to receive assistance under sections 316 through 320 of part A of Title III, under part B of Title III, or under Title V of the HEA.

Types of Priorities

When inviting applications for a competition using one or more priorities, we designate the type of each priority as absolute, competitive preference, or invitational. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

This notice does not preclude us from proposing additional priorities, requirements, definitions, or selection criteria, subject to meeting applicable rulemaking requirements.

Note: This notice does not solicit applications. In any year in which we choose to use one or more of these priorities, we invite applications through a notice in the Federal Register.

Executive Orders 12866 and 13563

Regulatory Impact Analysis

Under Executive Order 12866, the Secretary must determine whether this regulatory action is “significant” and, therefore, subject to the requirements of the Executive order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local, or tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This final regulatory action is not a significant regulatory action subject to review by OMB under section 3(f) of Executive Order 12866.

We have also reviewed this final regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing these final priorities only on a reasoned determination that their benefits justify their costs. In choosing among alternative regulatory approaches, we selected those approaches that maximize net benefits. Based on the analysis that follows, the Department believes that this regulatory action is consistent with the principles in Executive Order 13563.

We also have determined that this regulatory action does not unduly interfere with State, local, and tribal governments in the exercise of their governmental functions.

In accordance with both Executive orders, the Department has assessed the potential costs and benefits, both quantitative and qualitative, of this regulatory action. The potential costs are those resulting from statutory requirements and those we have determined as necessary for administering the Department's programs and activities.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Accessible Format: Individuals with disabilities can obtain this document in an accessible format (e.g., braille, large print, audiotape, or compact disc) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: May 29, 2014.
Lynn B. Mahaffie,
Senior Director, Policy Coordination, Development, and Accreditation Service, delegated the authority to perform the functions and duties of the Assistant Secretary for Postsecondary Education.

[FR Doc. 2014-12847 Filed 6-2-14; 8:45 am]

BILLING CODE 4000-01-P